DEPARTMENT OF ENERGY

Federal Energy Regulatory Commission

Combined Notice of Filings #1

June 11, 2009.

Take notice that the Commission received the following electric rate filings:

Docket Numbers: ER99-2311-010; ER97-2846-013.

Applicants: Carolina Power & Light Company; Florida Power Corporation.

Description: Revisions to Updated Market Power Analysis of Progress Energy, Inc.

Filed Date: 06/10/2009.

Accession Number: 20090610-5157.

Comment Date: 5 p.m. Eastern Time on Wednesday, July 1, 2009.

Docket Numbers: ER05-6-108; EL02-111-129; EL03-212-125; EL04-135-112.

Applicants: PJM Interconnection; Midwest Independent Transmission System Operator, Inc.

Description: PJM Interconnection, LLC et al. submits joint response to the 5/8/09 deficiency notice issue by the Commission.

Filed Date: 06/08/2009.

Accession Number: 20090610-0052.

Comment Date: 5 p.m. Eastern Time on Monday, June 29, 2009.

Docket Numbers: ER08-1574-005.

Applicants: ORNI 18, LLC.

Description: Notice of Non-Material Change in Status of ORNI 18, LLC.

Filed Date: 06/10/2009.

Accession Number: 20090610-5144.

Comment Date: 5 p.m. Eastern Time on Wednesday, July 1, 2009.

Docket Numbers: ER09-1013-001.

Applicants: PacifiCorp.

Description: PacfiCorp submits executed Appendix A, Exhibit 3.

Filed Date: 06/09/2009.

Accession Number: 20090610-0109.

Comment Date: 5 p.m. Eastern Time on Tuesday, June 30, 2009.

Docket Numbers: ER09-1127-001.

Applicants: Wheelabrator South Broward Inc.

Description: Wheelabrator South Broward Inc submits substitute tariff sheet correcting a typo error.

Filed Date: 06/09/2009.

Accession Number: 20090610-0110.

Comment Date: 5 p.m. Eastern Time on Tuesday, June 30, 2009.

Docket Numbers: ER09-1281-000.

Applicants: California Independent System Operator Corporation.

Description: California Independent System Operator submits an executed signature page.

Filed Date: 06/09/2009.

Accession Number: 20090611-0034.

Comment Date: 5 p.m. Eastern Time on Tuesday, June 30, 2009.

Docket Numbers: ER09-1288-000.

Applicants: Saracen Energy LP.

Description: Saracen Energy LP submits a Notice of Cancellation of Rate Schedule FERC No. 1.

Filed Date: 06/09/2009.

Accession Number: 20090610-0115.

Comment Date: 5 p.m. Eastern Time on Tuesday, June 30, 2009.

Docket Numbers: ER09-1289-000.

Applicants: Saracen Energy Partners, LP.

Description: Saracen Energy Partners, LP submits a Notice of Cancellation of Rate Schedule FERC No. 1.

Filed Date: 06/09/2009.

Accession Number: 20090610-0116.

Comment Date: 5 p.m. Eastern Time on Tuesday, June 30, 2009.

Docket Numbers: ER09-608-001.

Applicants: Tucson Electric Power Company.

Description: Tucson Electric Power Company submits revised tariff sheet to its Open Access Transmission to reflect that is has received a waiver of North American Energy Standards Board.

Filed Date: 06/09/2009.

Accession Number: 20090610-0108.

Comment Date: 5 p.m. Eastern Time on Tuesday, June 30, 2009.

Take notice that the Commission received the following electric reliability filings:

Docket Numbers: RR09-5-000.

Applicants: North American Electric Reliability Corporation.

Description: Petition of the North American Electric Reliability Corporation for Approval of Proposed Revisions to the Standards Development Process of Texas Regional Entity and Related Regional Entity Rules.

Filed Date: 06/08/2009.

Accession Number: 20090608-5132.

Comment Date: 5 p.m. Eastern Time on Monday, June 29, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-14467 Filed 6-18-09; 8:45 am]

BILLING CODE 6717-01-P